NUCLEAR REGULATORY COMMISSION

Draft Regulatory Guide; Issuance, Availability

The Nuclear Regulatory Commission (NRC) has issued for public comment a proposed revision of a guide in its Regulatory Guide Series. Regulatory Guides are developed to describe and make available to the public such information as methods acceptable to the NRC staff for implementing specific parts of the NRC's regulations, techniques used by the staff in evaluating specific problems or postulated accidents, and data needed by the staff in its review of applications for permits and licenses.

The draft guide is temporarily identified by its task number, DG-1125, which should be mentioned in all correspondence concerning this draft guide. Draft Regulatory Guide DG-1125, “Inservice Inspection Code Case Acceptability, ASME Section XI, Division 1,” is proposed Revision 14 of Regulatory Guide 1.147. The regulation at 10 CFR 50.55a(g), “Inservice Inspection Requirements,” requires, in part, that Classes 1, 2, 3, MC, and CC Components and their supports meet the requirements of Section XI, “Rules for Inservice Inspection of Nuclear Power Plant Components,” of the American Society of Mechanical Engineers (ASME) Boiler and Pressure Vessel (B&PV) Code or equivalent quality standards. Every 3 years the ASME publishes a new edition of the B&PV Code, including Section XI, and new addenda are published every year. The latest editions and addenda of Section XI that have been approved for use by the NRC are referenced in 10 CFR 50.55a(b). The ASME also publishes Code cases quarterly. Code cases provide alternatives to existing Code requirements that were developed and approved by the ASME. This regulatory guide identifies the Code cases that have been determined by the NRC to be acceptable alternatives to applicable parts of Section XI. These Code cases may be used by licensees without a request for authorization from the NRC provided that they are used with any identified limitations or modifications. Section XI Code cases not yet endorsed by the NRC may be implemented through 10 CFR 50.55a(a)(3), which permits the use of alternatives to the Code requirements referenced in 10 CFR 50.55a provided that the proposed alternatives result in an acceptable level of quality and safety and that their use is authorized by the Director of the Office of Nuclear Reactor Regulation.

This draft guide has not received complete staff approval and does not represent an official NRC staff position. Because Code cases approved by the NRC in a final guide may be used voluntarily by licensees as an alternative to compliance with ASME Code provisions, the final guide will be incorporated by reference into 10 CFR 50.55a through rulemaking.

A document entitled “Evaluation of Code Cases” is attached to the proposed rulemaking associated with the draft guide. The document provides a basis for each condition in the draft guide. Public comments are encouraged on the Code case conditions. It should be noted that Code Cases N-416-3 and N-504-2 are listed in the draft guide as unconditionally acceptable. The NRC is proposing to condition Code Case N-416-3 in response to a recent licensee submittal. The NRC does not believe that the application of the Code case as described in the submittal would provide adequate assurance of component structural integrity. A condition is also being proposed for Code Case N-504-2. The American Society of Mechanical Engineers (ASME) recently addressed a revision to Code Case N-504-2. The NRC is proposing to condition the use of Code Case N-504-2 based on this recent ASME action. The proposed conditions are discussed in Section 4.7 of the “Evaluation of Code Cases.” Because the industry actions occurred after the draft guide had been published but prior to release of the guide for public comment, the NRC is proposing to condition the use of these two Code cases in the final guide unless public comments are received that the staff's proposed technical bases for the conditions are not applicable, incorrect, unnecessary to provide reasonable assurance of adequate protection to public health and safety and common defense and security, or otherwise not justified in light of the increase in protection to public health and safety or common defense and security that would be provided by imposition of the conditions.

Comments may be accompanied by relevant information or supporting data. Written comments may be submitted by mail to the Rules and Directives Branch, Office of Administration, U.S. Nuclear Regulatory Commission, Washington, DC 20555-0001; or they may be hand-delivered to the Rules and Directives Branch, Office of Administration, at 11555 Rockville Pike, Rockville, MD. Copies of comments received may be examined at the NRC's Public Document Room, 11555 Rockville Pike, Rockville, MD. Comments will be most helpful if received by September 2, 2004.

You may also provide comments via the NRC's interactive rulemaking web site through the NRC home page (http:­//www.nrc.gov). This site provides the ability to upload comments as files (any format) if your web browser supports that function. For information about the interactive rulemaking web site, contact Ms. Carol Gallagher, (301) 415-5905; e-mail CAG@NRC.GOV. For technical information about Draft Regulatory Guide DG-1125, contact Mr. W. E. Norris at (301) 415-6796 (e-mail wen@nrc.gov).

Although a deadline is given for comments on these draft guides, comments and suggestions in connection with items for inclusion in guides currently being developed or improvements in all published guides are encouraged at any time.

Regulatory guides are available for inspection at the NRC's Public Document Room, 11555 Rockville Pike, Rockville, MD; the PDR's mailing address is USNRC PDR, Washington, DC 20555-0001; telephone (301) 415-4737 or (800) 397-4209; fax (301) 415-3548; e-mail pdr@nrc.gov. Requests for single copies of draft or final regulatory guides (which may be reproduced) or placement on an automatic distribution list for single copies of future draft guides in specific divisions should be made in writing to the U.S. Nuclear Regulatory Commission, Washington, DC 20555-0001, Attention: Reproduction and Distribution Services Section, or by fax to (301) 415-2289; e-mail distribution@nrc.gov. Telephone requests cannot be accommodated. Regulatory guides are not copyrighted, and NRC approval is not required to reproduce them. (5 U.S.C. 552(a))

Dated at Rockville, Maryland this 20th day of April, 2004.
For the Nuclear Regulatory Commission.
Michael Mayfield,
Director, Division of Engineering Technology, Office of Nuclear Regulatory Research.

[FR Doc. 04-17611 Filed 8-2-04; 8:45 am]

BILLING CODE 7590-01-P